MILLENNIUM CHALLENGE CORPORATION

[MCC FR 07-13]

Notice of the December 12, 2007 Millennium Challenge Corporation Board of Directors Meeting; Sunshine Act Meeting

AGENCY: Millennium Challenge Corporation.

Time and Date: 2 p.m. to 4 p.m., Wednesday, December 12, 2007.

Place: Department of State, 2201 C Street, NW., Washington, DC 20520.

FOR FURTHER INFORMATION CONTACT: Information on the meeting may be obtained from Suzi M. Morris via e-mail at Board@mcc.gov or by telephone at (202) 521-3600.

Status: Meeting will be closed to the public.

Matters to be Considered: The Board of Directors (the “Board”) of the Millennium Challenge Corporation (“MCC”) will hold a meeting to consider the selection of countries that will be eligible for FY 2008 Millennium Challenge Account (“MCA”) assistance under Section 607 of the Millennium Challenge Act of 2003 (the “Act”), codified at 22 U.S.C. 7706, or Threshold Program assistance under Section 616 of the Act (22 U.S.C. 7715); discuss progress on proposed Compacts with certain MCA-eligible countries; discuss MCC's proposed policy on suspension, remediation, and termination of assistance and eligibility; and certain administrative matters. The agenda items are expected to involve the consideration of classified information and the meeting will be closed to the public.

Dated: November 29, 2007.
William G. Anderson, Jr.,
Vice President and General Counsel, Millennium Challenge Corporation.

[FR Doc. 07-5922 Filed 11-29-07; 12:22 pm]

BILLING CODE 9210-01-M